DEPARTMENT OF VETERANS AFFAIRS

Fund Availability Under the Supportive Services for Veteran Families Program

AGENCY: Department of Veterans Affairs.

ACTION: Notice.

SUMMARY: The Department of Veterans Affairs (VA) is announcing the availability of funds for supportive services grants under the Supportive Services for Veteran Families Program (SSVF Program). This Notice contains information concerning the SSVF Program, application process, and amount of funding available.

DATES: Applications for assistance under the SSVF Program must be received by the SSVF Program Office by 4 p.m. Eastern Time on March 11, 2011. In the interest of fairness to all competing applicants, this deadline is firm as to date and hour, and VA will treat as ineligible for consideration any application that is received after the deadline. Applicants should take this practice into account and make early submission of their materials to avoid any risk of loss of eligibility brought about by unanticipated delays, computer service outages (in the case of Grants.gov), or other delivery-related problems.

For a Copy of the Application Package: Download directly from the SSVF Program Web page at: http://www1.va.gov/HOMELESS/SSVF.asp. Questions should be referred to the SSVF Program Office at (877) 737-0111 (this is a toll-free number). For detailed SSVF Program information and requirements, see the Final Rule published in the Federal Register (75 FR 68975) on November 10, 2010 (Final Rule), which is codified in 38 CFR Part 62.

Submission of Applications: An original completed and collated supportive services grant application in a three-ring binder (plus four completed, collated, unbound hard copies and a compact disc (CD) containing an electronic version of the entire application) must be submitted to the following address: Supportive Services for Veteran Families Program Office, National Center on Homelessness Among Veterans, 4100 Chester Avenue, Suite 201, Philadelphia, PA 19104. This requirement for submission of five hard copies and a CD also applies to applicants who submit via Grants.gov. Applications may not be sent by facsimile (FAX). Applications must be received in the SSVF Program Office by the application deadline. Applications must arrive as a complete package. Materials arriving separately will not be included in the application package for consideration and may result in the application being rejected. To encourage the equitable distribution of supportive services grants across geographic regions, in accordance with § 62.23(d)(2) of the Final Rule, an eligible entity may submit only one application per State.

FOR FURTHER INFORMATION CONTACT: John Kuhn, Supportive Services for Veteran Families Program Office, National Center on Homelessness Among Veterans, 4100 Chester Avenue, Suite 201, Philadelphia, PA 19104; (877) 737-0111 (this is a toll-free number).

SUPPLEMENTARY INFORMATION: This Notice announces the availability of funds for supportive services grants under the SSVF Program and pertains to proposals for new supportive services grant programs. Please refer to the Final Rule, published in the Federal Register (75 FR 68975) on November 10, 2010, which is codified in 38 CFR Part 62, for detailed SSVF Program information and requirements.

A. Purpose: The SSVF Program's purpose is to provide supportive services grants to private non-profit organizations and consumer cooperatives who will coordinate or provide supportive services to very low-income veteran families who: (i) Are residing in permanent housing, (ii) are homeless and scheduled to become residents of permanent housing within a specified time period, or (iii) after exiting permanent housing within a specified time period, are seeking other housing that is responsive to such very low-income veteran family's needs and preferences.

B. Definitions: Sections 62.2 and 62.11(a) of the Final Rule contain definitions of terms used in the SSVF Program. Definitions of key terms are also provided below for reference; however, the Final Rule should be consulted for all definitions.

Consumer cooperative has the meaning given such term in section 202 of the Housing Act of 1959 (12 U.S.C. 1701q).

Eligible entity means a: (1) Private non-profit organization, or (2) consumer cooperative.

Homeless has the meaning given that term in section 103 of the McKinney-Vento Homeless Assistance Act (42 U.S.C. 11302).

Occupying permanent housing means meeting any of the conditions set forth in § 62.11(a) of the Final Rule. Note: In accordance with § 62.11(a) of the Final Rule, a very low-income veteran family will be considered to be occupying permanent housing if the very low-income veteran family: (1) Is residing in permanent housing; (2) is homeless and scheduled to become a resident of permanent housing within 90 days pending the location or development of housing suitable for permanent housing; or (3) has exited permanent housing within the previous 90 days to seek other housing that is responsive to the very low-income veteran family's needs and preferences. For limitations on and continuations of the provision of supportive services to participants classified under categories (2) and (3), see § 62.35 of the Final Rule.

Participant means a very low-income veteran family occupying permanent housing who is receiving supportive services from a grantee.

Permanent housing means community-based housing without a designated length of stay. Examples of permanent housing include, but are not limited to, a house or apartment with a month-to-month or annual lease term or home ownership.

Private non-profit organization means any of the following:

(1) An incorporated private institution or foundation that: (i) Has no part of the net earnings that inure to the benefit of any member, founder, contributor, or individual; (ii) has a governing board that is responsible for the operation of the supportive services provided under this part; and (iii) is approved by VA as to financial responsibility.

(2) A for-profit limited partnership, the sole general partner of which is an organization meeting the requirements of paragraphs (1)(i), (ii) and (iii) of this definition.

(3) A corporation wholly owned and controlled by an organization meeting the requirements of paragraphs (1)(i), (ii), and (iii) of this definition.

(4) A Tribally designated housing entity (as defined in section 4 of the Native American Housing Assistance and Self-Determination Act of 1996 (25 U.S.C. 4103)).

Supportive services means any of the following provided to address the needs of a participant:

(1) Outreach services as specified under § 62.30 of the Final Rule;

(2) Case management services as specified under § 62.31 of the Final Rule;

(3) Assisting participants in obtaining VA benefits as specified under § 62.32 of the Final Rule;

(4) Assisting participants in obtaining and coordinating other public benefits as specified under § 62.33 of the Final Rule; and

(5) Other services as specified under § 62.34 of the Final Rule.

Very low-income veteran family means a veteran family whose annual income, as determined in accordance with 24 CFR 5.609, does not exceed 50 percent of the median income for an area or community. The median income for an area or community will be determined using the income limits most recently published by the Department of Housing and Urban Development (HUD) for programs under section 8 of the United States Housing Act of 1937 (42 U.S.C. 1437f) (http://www.huduser.org).

Veteran means a person who served in the active military, naval, or air service, and who was discharged or released therefrom under conditions other than dishonorable.

Veteran family means a veteran who is a single person or a family in which the head of household, or the spouse of the head of household, is a veteran.

C. Approach: Grantees will be expected to leverage supportive services grant funds to enhance the housing stability of very low-income veteran families who are occupying permanent housing. In doing so, grantees are encouraged to establish relationships with the local community's Continuum of Care. (HUD defines a Continuum of Care as, “a community plan to organize and deliver housing and services to meet the specific needs of people who are homeless as they move to stable housing and maximize self-sufficiency. It includes action steps to end homelessness and prevent a return to homelessness.”) The aim of the provision of supportive services is to rapidly transition to stable housing (i) very low-income veteran families who are homeless and scheduled to become residents of permanent housing within 90 days, including those leaving VA's Homeless Providers Grant and Per Diem projects, (ii) very low-income veteran families who have exited permanent housing within the previous 90 days to seek other housing that is responsive to their needs and preferences, and (iii) to assist very low-income veteran families residing in permanent housing to remain stably housed. Accordingly, VA encourages eligible entities skilled in facilitating housing stability and currently operating rapid re-housing programs (i.e., administering HUD's Homelessness Prevention and Rapid Re-Housing Program (HPRP) funds or other comparable Federal or community resources) to apply for supportive services grants. The SSVF Program is not intended to provide long-term support for participants, nor will it be able to address all of the financial and supportive services needs of participants that affect housing stability. Rather, when participants require long-term support, grantees should focus on connecting such participants to mainstream Federal and community resources (e.g., HUD-VA Supported Housing (VASH) program, HUD Housing Choice Voucher programs, McKinney-Vento funded supportive housing programs, Temporary Assistance for Needy Families (TANF), etc.) that can provide ongoing support as required.

D. Authority: Funding applied for under this Notice is authorized by the Veterans' Mental Health and Other Care Improvements Act of 2008, Public Law 110-387, codified at 38 U.S.C. 2044. The SSVF Program is implemented by the Final Rule codified at 38 CFR part 62. The regulations can be found in 38 CFR 62.1 through 62.81. Funds made available under this Notice are subject to the requirements of the aforementioned regulations and other applicable laws and regulations.

E. Allocation: Approximately $50 million is available for supportive services grants to be funded under this Notice for a 1-year period. The maximum allowable grant size is $1,000,000.00 per year per grantee.

F. Supportive Services Grant Award Period: Supportive services grants awarded under this Notice will be for a 1-year period. In accordance with § 62.20(b) of the Final Rule, subject to the availability of VA funds, VA may issue a future Notice of Fund Availability which would permit grantees to apply for the renewal of a supportive services grant in accordance with the terms and conditions of such Notice of Fund Availability.

G. Requirements for the Use of Supportive Services Grant Funds: The grantee's request for funding must be consistent with the limitations and uses of supportive services grant funds set forth in the Final Rule and this Notice. In accordance with the Final Rule and this Notice, the following requirements apply to supportive services grants awarded under this Notice:

1. Grantees may use a maximum of 10 percent of supportive services grant funds for administrative costs identified in § 62.70 of the Final Rule.

2. Grantees must use between 60 and 75 percent of supportive services grant funds to provide supportive services to very low-income veteran families who either (i) are homeless and scheduled to become residents of permanent housing within 90 days pending the location or development of housing suitable for permanent housing, as described in § 62.11(a)(2) of the Final Rule, or (ii) have exited permanent housing within the previous 90 days to seek other housing that is responsive to their needs and preferences, as described in § 62.11(a)(3) of the Final Rule.

3. Grantees must use between 20 and 35 percent of supportive services grant funds to provide supportive services to very low-income veteran families who are residing in permanent housing, as described in § 62.11(a)(1) of the Final Rule. VA encourages grantees to target prevention assistance to those very low-income veteran families at the greatest risk of becoming homeless.

4. For supportive services grants awarded under this Notice, in conjunction with the requirements noted above, the grantee may utilize a maximum of 30 percent of supportive services grant funds to provide the supportive service of temporary financial assistance paid directly to a third party on behalf of a participant for child care, transportation, rental assistance, utility-fee payment assistance, security deposits, utility deposits, moving costs, and emergency supplies in accordance with §§ 62.33 and 62.34 of the Final Rule.

H. Guidance for the Use of Supportive Services Grant Funds: Grantees are encouraged to consider the following guidance for the use of supportive services grant funds:

1. When serving participants who (i) are homeless and scheduled to become residents of permanent housing or (ii) have exited permanent housing in order to seek other housing that is responsive to their needs and preferences, in addition to the required supportive services, grantees may focus on providing the following supportive services: Housing counseling; assisting participants in understanding leases; securing utilities; making moving arrangements; representative payee services concerning rent and utilities; and mediation and outreach to property owners related to locating or retaining housing. Grantees may also assist participants by providing rental assistance, security or utility deposits, moving costs or emergency supplies, using other Federal resources, such as the HPRP Program, or supportive services grant funds subject to the limitations described in this Notice and § 62.34 of the Final Rule.

2. When serving participants who are residing in permanent housing, it is helpful to remember that the defining question to ask is: “Would this individual or family be homeless but for this assistance?” To aid grantees in targeting SSVF Program funds toward very low-income veteran families most at risk of becoming homeless, a number of potential “risk factors” are listed below that could indicate a higher risk of becoming homeless. This list contains examples of some commonly identified risk factors for homelessness from scholarly research and practical experience drawn from existing homelessness prevention programs. One way a grantee could use these factors would be to require that a participant demonstrate some combination of the risk factors to qualify for assistance. Grantees should note that this list is optional and not exhaustive. Grantees may consider other risk factors or other ways to target persons at risk of homelessness based on past experience and available resources. A formalized screening tool should be developed to assess a very low-income veteran family's risk of homelessness and to prioritize the provision of supportive services to those very low-income veteran families most in need. The risk factors for homelessness for consideration by grantees in developing their programs are as follows:

a. Eviction within two weeks from a private dwelling (including housing provided by family or friends);

b. Discharge within two weeks from an institution in which the person has been a resident for more than 180 days (including prisons, mental health institutions, hospitals);

c. Residency in housing that has been condemned by housing officials and is no longer meant for human habitation;

d. Sudden and significant loss of income;

e. Sudden and significant increase in utility costs;

f. Mental health and substance use issues;

g. Physical disabilities and other chronic health issues, including HIV/AIDS;

h. Severe housing cost burden (greater than 50 percent of income for housing costs);

i. Homeless in last 12 months;

j. Young head of household (under 25 with children or pregnant);

k. Current or past involvement with child welfare, including foster care;

l. Pending foreclosure of rental housing;

m. Extremely low income (less than 30 percent of area median income);

n. High overcrowding (the number of persons in household exceeds health and/or safety standards for the housing unit size);

o. Past institutional care (prison, treatment facility, hospital);

p. Recent traumatic life event, such as death of a spouse or primary care provider, or recent health crisis that prevented the household from meeting its financial responsibilities;

q. Credit problems that preclude obtaining of housing; or

r. Significant amount of medical debt.

In addition to the required supportive services, supportive services provided to this category of very low-income veteran families should focus on the following: housing stabilization, linking participants to community resources and mainstream benefits, and helping participants develop a plan for preventing future housing instability.

3. Where HPRP funds or other funds from community resources are not readily available, grantees may choose to utilize supportive services grants, subject to the limitations described in this Notice and in §§ 62.33 and 62.34 of the Final Rule, to provide temporary financial assistance. Such assistance may, subject to the limitations in this Notice and the Final Rule, be paid directly to a third party on behalf of a participant for child care, transportation, rental assistance, utility-fee payment assistance, security or utility deposits, moving costs and emergency supplies as necessary.

I. Application Selection Methodology: VA will review all supportive services grant applications in response to this Notice according to the following steps:

1. Score all applicants that meet the threshold requirements described in § 62.21 of the Final Rule.

2. Rank those applicants who score at least 60 cumulative points and receive at least one point under each of the categories identified in § 62.22, paragraphs (a), (b), (c), (d), and (e) of the Final Rule. The applicants will be ranked in order from highest to lowest scores.

3. Utilize the ranked scores of applicants as the primary basis for selection. However, in accordance with § 62.23(d) of the Final Rule, VA will utilize the following considerations to select applicants for funding:

i. Preference applicants that provide or coordinate the provision of supportive services for very low-income veteran families transitioning from homelessness to permanent housing; and

ii. To the extent practicable, ensure that supportive services grants are equitably distributed across geographic regions, including rural communities and Tribal lands.

4. Subject to the considerations noted in paragraph I.3. above, VA will fund the highest-ranked applicants for which funding is available.

J. VA's Goals and Objectives for Funds Awarded Under this Notice: In accordance with § 62.22(b)(6) of the Final Rule, VA will evaluate an applicant's ability to meet VA's goals and objectives for the SSVF Program. VA's goals and objectives include the provision of supportive services designed to enhance the housing stability and independent living skills of very low-income veteran families occupying permanent housing across geographic regions. For purposes of this Notice, VA's goals and objectives also include the provision of supportive services designed to rapidly re-house or prevent homelessness among people in the following target populations who also meet all requirements for being part of a very low-income veteran family occupying permanent housing:

1. Veteran families earning less than 30 percent of area median income as most recently published by HUD for programs under section 8 of the United States Housing Act of 1937 (42 U.S.C. 1437f) (http://www.huduser.org).

2. Veterans with at least one dependent family member.

3. Chronically homeless veteran families (for the purposes of this Notice, the definition of a chronically homeless veteran family is an individual or family that (i) is homeless and lives or resides in a place not meant for human habitation, or safe haven, or in an emergency shelter; (ii) has been homeless and living or residing in a place not meant for human habitation, a safe haven, or in an emergency shelter continuously for at least one year or on at least four separate occasions in the last three years; and (iii) has an adult head of household with a diagnosable substance use disorder, serious mental illness, developmental disability (as defined in section 102 of the Developmental Disabilities Assistance and Bill of Rights Act of 2000 (42 U.S.C. 15002)), Post-Traumatic Stress Disorder, cognitive impairments resulting from a brain injury, or chronic physical illness or disability, including the co-occurrence of two or more of those conditions).

4. Formerly chronically homeless veteran families (for the purposes of this Notice, a formerly chronically homeless veteran family is defined as a veteran family who has been chronically homeless as defined in this Notice at one or more points in time within the past 3 years).

K. Application Requirements: Additional supportive services grant application requirements are specified in the application package. Submission of an incorrect or incomplete application package will result in the application being rejected during threshold review. The application package contains all required forms and certifications. Selections will be made based on criteria described in the Final Rule and this Notice. Applicants will be notified of any additional information needed to confirm or clarify information provided in the application and the deadline by which to submit such information.

L. Payments of Supportive Services Grant Funds: Grantees will receive payments electronically through the U.S. Department of Health and Human Services Payment Management System (HHS PMS). Grantees will have the ability to request payments as frequently as they choose subject to the following limitations:

1. During the first quarter of the grantee's supportive services grant award period, the grantee's cumulative requests for supportive services grant funds may not exceed 35 percent of the total supportive services grant award without written approval by VA.

2. By the end of the second quarter of the grantee's supportive services grant award period, the grantee's cumulative requests for supportive services grant funds may not exceed 60 percent of the total supportive services grant award without written approval by VA.

3. By the end of the third quarter of the grantee's supportive services grant award period, the grantee's cumulative requests for supportive services grant funds may not exceed 75 percent of the total supportive services grant award without written approval by VA.

4. By the end of the fourth quarter of the grantee's supportive services grant award period, the grantee's cumulative requests for supportive services grant funds may not exceed 100 percent of the total supportive services grant award.

M. Monitoring: VA places great emphasis on the responsibility and accountability of grantees. As described in §§ 62.23 and 62.71 of the Final Rule, VA has procedures in place to monitor supportive services provided to participants and outcomes associated with the supportive services provided under the SSVF Program. Applicants should be aware of the following:

1. Upon execution of a supportive services grant agreement with VA, grantees will have a liaison appointed by the SSVF Program Office who will provide oversight and monitor supportive services provided to participants.

2. Grantees will be required to enter data into a Homeless Management Information System (HMIS) Web-based software application. This data will consist of information on the participants served and types of supportive services provided by grantees. Grantees must treat the data for activities funded by the SSVF Program separate from that of activities funded by other programs. Grantees will be required to export client-level data for activities funded by the SSVF Program to VA on a regular basis.

3. Monitoring will also include the submittal of quarterly and annual financial and performance reports by the grantee. The grantee will be expected to demonstrate adherence to the grantee's proposed program concept, as described in the grantee's application.

4. Grantees will be required to provide each participant with a satisfaction survey which can be submitted by the participant directly to VA, within 45 to 60 days of the participant's entry into the grantee's program and again within 30 days of such participant's pending exit from the grantee's program. N. Technical Assistance: Information regarding how to obtain technical assistance with the preparation of a supportive services grant application is available on the SSVF Program Web page at: http://www1.va.gov/HOMELESS/SSVF.asp.

Dated: December 10, 2010.
John R. Gingrich,
Chief of Staff, Department of Veterans Affairs.

[FR Doc. 2010-31742 Filed 12-16-10; 8:45 am]

BILLING CODE 8320-01-P